ENVIRONMENTAL PROTECTION AGENCY

[FRL-7099-8]

Proposed CERCLA Administrative Cost Recovery Settlement: Former Diller Battery Site

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Former Diller Battery site in Des Moines, Iowa with the following settling parties: City of Des Moines, Iowa, Union Pacific Railroad Company, Polk County, Iowa, Richard A. Bartolomei and Dennis L. Eppard. The settlement requires the settling parties to pay $75,000 to the Hazardous Substance Superfund. The settlement includes a covenant not to sue the settling parties pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Des Moines North Side Public Library, 3516 5th Avenue, Des Moines, Iowa 50313, and at the U.S. Environmental Protection Agency, Region 7, Regional Records Center, 901 North 5th Street, Kansas City, Kansas 66101.

DATES: Comments must be submitted on or before December 7, 2001.

ADDRESSES: Copies of the documents relevant to this proposed settlement may be obtained from Mike Gieryic, Office of Regional Counsel, 901 North 5th Street, Kansas City, Kansas 66101, (913) 551-7822. Comments should reference the Former Diller Battery site, Des Moines, Iowa, and should be addressed to Kathy Robinson, Regional Hearing Clerk, 901 North 5th Street, Kansas City, Kansas 66101.

FOR FURTHER INFORMATION CONTACT: Mike Gieryic, Office of Regional Counsel, 901 North 5th Street, Kansas City, Kansas 66101, (913) 551-7822.

Dated: October 18, 2001.
James B. Gulliford,
Regional Administrator, Region VII.

[FR Doc. 01-27948 Filed 11-6-01; 8:45 am]

BILLING CODE 6560-50-P